NUCLEAR REGULATORY COMMISSION

[NRC-2012-0113]

Determining Technical Adequacy of Probabilistic Risk Assessment for Risk-Informed License Amendment Requests After Initial Fuel Load

AGENCY: Nuclear Regulatory Commission.

ACTION: NUREG; issuance.

SUMMARY: The U.S. Nuclear Regulatory Commission (NRC or the Commission) is issuing its final Revision 3 to NUREG-0800, “Standard Review Plan for the Review of Safety Analysis Reports for Nuclear Power Plants: LWR Edition,” Section 19.1, “Determining the Technical Adequacy of Probabilistic Risk Assessment for Risk-Informed License Amendment Requests after Initial Fuel Load.”

The NRC staff issues revisions to Standard Review Plan (SRP) sections to facilitate timely implementation of the current staff guidance and to facilitate reviews to amendments to licenses for operating reactors or for activities associated with review of applications for early site permits and combined licenses (COL) for the Office of New Reactors (NRO).

DATES: The effective date of this SRP update is October 22, 2012.

ADDRESSES: Please refer to Docket ID NRC-2012-0113 when contacting the NRC about the availability of information regarding this document. You may access information related to this document, which the NRC possesses and are publicly available by any of the following methods:

• Federal Rulemaking Web Site: Go to http://www.regulations.gov and search for Docket ID NRC-2010-0138. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Final Revision 3 to NUREG-0800 is available in ADAMS under Accession No. ML12193A107.

• NRC's PDR: You may examine and purchase copies of public documents at the NRC's PDR, Room O1-F21, One White Flint North, 11555 Rockville Pike, Rockville, Maryland 20852.

• The NRC posts its issued staff guidance on the NRC's external Web page (http://www.nrc.gov/reading-rm/doc-collections/nuregs/staff/sr0800/).

FOR FURTHER INFORMATION CONTACT: Ms. Amy E. Cubbage, Office of New Reactors, U.S. Nuclear Regulatory Commission, Washington, DC 20555-0001; telephone: 301-415-2875; email: Amy.Cubbage@nrc.gov.

SUPPLEMENTARY INFORMATION: On May 22, 2012 (77 FR 30335), the NRC published for public comment the proposed Revision 3 to Section 19.1, “Determining the Technical Adequacy of Probabilistic Risk Assessment for Risk-Informed License Amendment Requests After Initial Fuel Load” (ADAMS Accession No. ML112990771). There were no comments received on the proposed revision. Hence the guidance is being issued final for use without any changes to the proposed guidance. The NRC staff will also incorporate Revision 3 of SRP Section 19.1 into the next revisions of Regulatory Guide 1.206, “Combined License Applications for Nuclear Power Plants” (ADAMS Accession No. ML070720184).

Congressional Review Act

In accordance with the Congressional Review Act, the NRC has determined that this action is not a major rule and has verified this determination with the Office of Information and Regulatory Affairs of the Office of Management and Budget.

Dated at Rockville, Maryland, this 14th day of September, 2012.
For the Nuclear Regulatory Commission.
Amy E. Cubbage,
Chief, Policy Branch, Division of Advanced Reactors and Rulemaking, Office of New Reactors.

[FR Doc. 2012-23347 Filed 9-20-12; 8:45 am]

BILLING CODE 7590-01-P